DEPARTMENT OF THE INTERIOR

Bureau of Land Management

[AZA 12960]

Public Land Order No. 7561; Revocation of Secretarial Order Dated June 10, 1931; Arizona

AGENCY: Bureau of Land Management, Interior.

ACTION: Public land order.

SUMMARY: This order revokes a Secretarial Order in its entirety as it affects approximately 73 acres of National Forest System lands withdrawn to protect several water sources within the Tonto (formerly Crook) National Forest for recreational development. The Forest Service has determined that the withdrawal is no longer needed. This action will open the lands to mining.

EFFECTIVE DATE: May 7, 2003.

FOR FURTHER INFORMATION CONTACT: Cliff Yardley, BLM Arizona State Office, 222 North Central Avenue, Phoenix, Arizona 85004-2203, 602-417-9437.

SUPPLEMENTARY INFORMATION: The Forest Service has determined that the withdrawal is no longer needed and has requested the revocation.

Order

By virtue of the authority vested in the Secretary of the Interior by section 204 of the Federal Land Policy and Management Act of 1976, 43 U.S.C. 1714 (1994), it is ordered as follows:

1. The Secretarial Order dated June 10, 1931, which withdrew National Forest System lands for several water sources within the Tonto (formerly Crook) National Forest for recreational development, is hereby revoked in its entirety.

2. At 10 a.m. on May 7, 2003, the lands will be opened to location and entry under the United States mining laws, subject to valid existing rights, the provisions of existing withdrawals, other segregations of record, and the requirements of applicable law. Appropriation of any of the lands described in this order under the general mining laws prior to the date and time of restoration is unauthorized. Any such attempted appropriation, including attempted adverse possession under 30 U.S.C. 38 (1994), shall vest no rights against the United States. Acts required to establish a location and to initiate a right of possession are governed by State law where not in conflict with Federal law. The Bureau of Land Management will not intervene in disputes between rival locators over possessory rights since Congress has provided for such determinations in local courts.

Dated: March 11, 2003.
Rebecca W. Watson,
Assistant Secretary—Land and Minerals Management.

[FR Doc. 03-8306 Filed 4-4-03; 8:45 am]

BILLING CODE 3410-11-P